DEPARTMENT OF THE TREASURY

Submission for OMB Review; Comment Request

June 27, 2016.

The Department of the Treasury will submit the following information collection requests to the Office of Management and Budget (OMB) for review and clearance in accordance with the Paperwork Reduction Act of 1995, Public Law 104-13, on or after the date of publication of this notice.

DATES: Comments should be received on or before August 1, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Control Number: 1545-0196.

Type of Review: Revision of a currently approved collection.

Title: Split-Interest Trust Information Return.

Form: Form 5227.

Abstract: The data reported is used to verify that the beneficiaries of a charitable remainder trust include the correct amounts in their tax returns, and that the split-interest trust is not subject to private foundation taxes.

Estimated Total Annual Burden Hours: 33,138,550.

OMB Control Number: 1545-0219.

Type of Review: Revision of a currently approved collection.

Title: Work Opportunity Credit.

Form: Form 5884.

Abstract: IRC section 38(b) (2) allows a credit against income tax to employers hiring individuals from certain targeted groups such as welfare recipients, etc. The employer uses Form 5884 to figure the credit. IRS uses the information on the form to verify that the correct amount of credit was claimed.

Estimated Total Annual Burden Hours: 69,400.

Brenda Simms,
Treasury PRA Clearance Officer.

[FR Doc. 2016-15577 Filed 6-30-16; 8:45 am]

BILLING CODE 4830-01-P